ENVIRONMENTAL PROTECTION AGENCY

[FRL-7132-7]

EPA Draft Human Health and Ecological Risk Assessment of Perchlorate

AGENCY: Environmental Protection Agency.

ACTION: Notice of extension of public comment period for draft perchlorate toxicological review and risk characterization.

SUMMARY: On January 2, 2002, EPA published a Federal Register notice (67 FR 75) announcing: the public availability, expected on January 9, 2002, of the revised draft document entitled, “Perchlorate Environmental Contamination: Toxicological Review and Risk Characterization” (NCEA-1-0503); the beginning of a 30-day public comment period on the revised draft document; and an external peer review workshop in Sacramento, California on March 5 and 6, 2002. Due to some necessary technical editing to clarify the discussion of some of the studies included in the draft document, public release, and availability of the perchlorate external review draft was delayed by approximately one week. Accordingly, EPA is extending the public comment period until February 19, 2002. Please note that comments received by February 19 will be made available at the peer review workshop.

DATES: Only comments postmarked by February 19, 2002, will be made available at the workshop.

ADDRESSES: The external review draft of the perchlorate document is available on EPA's National Center for Environmental Assessment (NCEA) Web site at http://www.epa.gov/ncea. Written comments should be submitted to ERG, Attn: Meetings, 110 Hartwell Avenue, Lexington, MA 02421. Comments under 50 pages may be sent via e-mail attachment (in Word, Word Perfect, or PDF) to meetings@erg.com.

FOR FURTHER INFORMATION CONTACT: Questions regarding registration and submission of comments should be directed to EPA's contractor, Eastern Research Group, Inc. (ERG), at 781-674-7374. For technical inquiries, please contact: Annie M. Jarabek, U.S. Environmental Protection Agency (MD 52), USEPA Mailroom, Research Triangle Park, NC 27711; telephone 919-541-4847; facsimile 919-541-1818; e-mail jarabek.annie@epa.gov.

Dated: January 17, 2002.
George W. Alapas,
Acting Director, National Center for Environmental Assessment.

[FR Doc. 02-1757 Filed 1-23-02; 8:45 am]

BILLING CODE 6560-50-P